DEPARTMENT OF ENERGY

Federal Energy Regulatory Commission

[Docket No. RP02-116-000]

Northwest Pipeline Corp.; Notice of Proposed Changes in FERC Gas Tariff

December 11, 2001.

Take notice that on December 3, 2001, Northwest Pipeline Corporation(Northwest) tendered for filing as part of its FERC Gas Tariff, Third Revised Volume No. 1, the following tariff sheets, with an effective date of January 1, 2002:

Eighth Revised Sheet No. 6

Fifteenth Revised Sheet No. 14

Fifth Revised Sheet No. 15

Second Revised Sheet No. 115

Second Revised Sheet No. 116

Third Revised Sheet No. 117

Second Revised Sheet No. 118

First Revised Sheet No. 119

Eighth Revised Sheet No. 200

Third Revised Sheet No. 215

Eighth Revised Sheet No. 231

Fifth Revised Sheet No. 245

Fourth Revised Sheet No. 303-A

Original Sheet No. 359

Third Revised Sheet No. 360

Second Revised Sheet No. 361

First Revised Sheet No. 362

Northwest states that the purpose of this filing is to add a new rate schedule, Rate Schedule DEX-1, to Northwest's tariff for the deferred exchange of storage gas. This proposed rate schedule provides a mechanism for Northwest to increase the level of its system balancing gas in a particular gas storage facility without using mainline capacity to transport the gas from a storage facility on another part of its system.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31079 Filed 12-17-01; 8:45 am]

BILLING CODE 6717-01-P